DEPARTMENT OF AGRICULTURE

Forest Service

Notice of Resource Advisory Committee Meeting

AGENCY: Lassen Resource Advisory Committee, Susanville, CA, USDA Forest Service.

ACTION: Notice of meetings.

SUMMARY: Pursuant to the authorities in the Federal Advisory Committees Act (Pub. L. 92-463) and under the Secure Rural Schools and Community Self-Determination Act of 2000 (Pub. L. 106-393) the Lassen National Forest's Lassen County Resource Advisory Committee will meet Thursday, February 10, 2005, in Susanville, California for a business meeting. The meeting is open to the public.

FOR FURTHER INFORMATION CONTACT: Contact Robert Andrews, District Ranger, Designated Federal Officer, at (530) 257-4188; or Public Affairs Officer, Heidi Perry, at (530) 252-6604.

SUPPLEMENTARY INFORMATION: The business meeting on February 10th will begin at 9 a.m., at the Susanville Interagency Fire Center, 1491 5th Street, Susanville, CA 96130. There will be discussions regarding the re-appointment process; review of project monitoring plans; funding, payment and monitoring processes; and field trip projects reviews schedule for the summer. Time will also be set aside for public comments at the beginning of the meeting.

Elizabeth Norton,
Acting Forest Supervisor.

[FR Doc. 05-1388 Filed 1-25-05; 8:45 am]

BILLING CODE 3410-11-M